DEPARTMENT OF ENERGY

Federal Energy Regulatory Commission

[Docket No. OR18-9-000]

White Cliffs Pipeline, L.L.C.; Notice of Designation of Commission Staff as Non-Decisional

With respect to the proceedings pending before the Commission in the above-captioned docket, Dr. Emma Nicholson from the Office of Energy Policy and Innovation is designated as non-decisional in deliberations by the Commission in this docket. Accordingly, pursuant to 18 CFR 385.2202 (2017), as non-decisional staff, Dr. Nicholson will not participate in an advisory capacity in the Commission's review of any future filings in the above-referenced docket, including offers of settlement or settlement agreements. Likewise, pursuant to 18 CFR 385.2201 (2017), Dr. Nicholson is prohibited from communicating with advisory staff concerning any deliberations in these dockets.

Dated: June 14, 2018.
Kimberly D. Bose,
Secretary.

[FR Doc. 2018-13207 Filed 6-19-18; 8:45 am]

BILLING CODE 6717-01-P